DEPARTMENT OF DEFENSE

GENERAL SERVICES ADMINISTRATION

NATIONAL AERONAUTICS AND SPACE ADMINISTRATION

48 CFR Parts 1, 15, 28, 30, 42, and 44

[FAC 2021-02; FAR Case 2020-003; Item I; Docket No. FAR-2020-0003, Sequence 1]

RIN 9000-AO06

Federal Acquisition Regulation: Removal of FAR Appendix

AGENCY: Department of Defense (DoD), General Services Administration (GSA), and National Aeronautics and Space Administration (NASA).

ACTION: Final rule.

SUMMARY: DoD, GSA, and NASA are issuing a final rule amending the Federal Acquisition Regulation (FAR) to remove references to the FAR appendix. The Cost Accounting Standards Board regulations remain available in the Code of Federal Regulations. This final rule also deletes the few additional references to the FAR “looseleaf”.

DATES: Effective: November 23, 2020.

FOR FURTHER INFORMATION CONTACT: Mr. Bryon Boyer, Procurement Analyst, at 817-850-5580 or by email at bryon.boyer@gsa.gov for clarification of content. For information pertaining to status or publication schedules, contact the Regulatory Secretariat Division at 202-501-4755. Please cite FAC 2021-02, FAR Case 2020-003.

SUPPLEMENTARY INFORMATION:

I. Background

The FAR appendix was created in 1988 (July 20, 1988, FAC 84-38) as “appendix A to part 30.” It was relabeled “appendix B” in 1992 (August 31, 1992, FAR Case 92-18), and eventually as just “the appendix” (July 25, 1997 technical amendment). The appendix does not appear in the Code of Federal Regulations other than as references to it. The appendix appears in the version of the FAR currently available online at https://www.acquisition.gov/browse/index/far. The original purpose of the appendix was to provide an easy way for readers to read the Cost Accounting Standards (CAS) Board regulations at 48 CFR chapter 99, that are heavily referenced in FAR part 30. That is no longer necessary. Users are able to access 48 CFR chapter 99 easily online at the electronic Code of Federal Regulation (eCFR) website (https://www.ecfr.gov). The CAS Board regulations no longer appear in the appendix in full text. Therefore, references throughout the FAR to the CAS Board regulations being in the appendix are out of date. For all the regulation locations where “FAR appendix” is deleted, the citation to 48 CFR chapter 99 will be maintained to direct the workforce to the supporting regulation. To further help the workforce, Acquisition.gov is being updated to include hyperlinks for all “48 CFR chapter 99” citations.

This final rule also deletes the few additional references to the FAR “looseleaf”, because the FAR loose-leaf version is now published online at https://www.acquisition.gov. It is no longer published as a paper loose-leaf version.

II. Publication of This Final Rule for Public Comment Is Not Required by Statute

“Publication of proposed regulations”, 41 U.S.C. 1707, is the statutory provision in title 41 that applies to the publication of the Federal Acquisition Regulation. Subsection 1707(a)(1) requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This final rule is not required to be published for public comment, because the deletions of references to “the appendix” in the FAR “loose-leaf” are administrative and do not have a significant effect on the public or Government. As explained in the background section, users are directed to the eCFR to access the information that is at 48 CFR chapter 99, as it is no longer in “the appendix.”

III. Applicability to Contracts at or Below the Simplified Acquisition Threshold (SAT) and for Commercial Items, Including Commercially Available Off-The-Shelf (COTS) Items

This rule amends the FAR to delete references to “the appendix” in the FAR “loose-leaf.” The amendments are administrative in nature and do not change the applicability or the text of any FAR solicitation provisions or contract clauses.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

V. Executive Order 13771

This rule is not subject to E.O. 13771, Reducing Regulation and Controlling Regulatory Costs, because this rule is not a significant regulatory action under E.O. 12866.

VI. Regulatory Flexibility Act

Because a notice of proposed rulemaking and an opportunity for public comment are not required to be given for this rule under 41 U.S.C. 1701(a)(1) (see section II of this preamble), the analytical requirements of the Regulatory Flexibility Act (5 U.S.C. 601 et seq.) are not applicable. Accordingly, no regulatory flexibility analysis is required and none has been prepared.

VII. Paperwork Reduction Act

The rule does not contain any information collection requirements that require the approval of the Office of Management and Budget under the Paperwork Reduction Act (44 U.S.C. chapter 35).

List of Subjects in 48 CFR Parts 1, 15, 28, 30, 42, and 44

Government procurement.

William F. Clark,
Director, Office of Government-wide Acquisition Policy, Office of Acquisition Policy, Office of Government-wide Policy.

Therefore, DoD, GSA, and NASA amend 48 CFR parts 1, 15, 28, 30, 42, and 44 as set forth below:

1. The authority citation for 48 CFR parts 1, 15, 28, 30, 42, and 44 continues to read as follows:

Authority: 40 U.S.C. 121(c); 10 U.S.C. chapter 137; and 51 U.S.C. 20113.

PART 1—FEDERAL ACQUISITION REGULATIONS SYSTEM

2. Amend section 1.105-1 by revising paragraph (a) to read as follows:

1.105-1 Publication and code arrangement.

(a) The FAR is published in—

(1) The daily issue of the Federal Register;

(2) Cumulated form in the Code of Federal Regulations (CFR); and

(3) A separate edition available at https://www.acquisition.gov/browse/index/far.

* * * * *

1.201-1 [Amended]

3. Amend section 1.201-1 in paragraph (e)(6) by removing “and printing for distribution”.

1.201-2 [Amended]

4. Amend section 1.201-2 in paragraph (a) by removing “print, publish,” and “loose-leaf” and adding “publish” and “separate online” in their places, respectively.

1.402 [Amended]

5. Amend section 1.402 by removing “Chapter 99 (FAR Appendix)” and adding “chapter 99” in its place.

PART 15—CONTRACTING BY NEGOTIATION

15.404-1 [Amended]

6. Amend section 15.404-1 in paragraph (c)(2)(iv) by removing “Chapter 99 (Appendix to the FAR looseleaf edition)” and adding “chapter 99” in its place.

PART 28—BONDS AND INSURANCE

28.301 [Amended]

7. Amend section 28.301 in paragraph (a)(1) by removing “48 CFR 9004.416 (appendix B, FAR loose-leaf edition)” and adding “48 CFR 9004.416” in its place.

PART 30—COST ACCOUNTING STANDARDS ADMINISTRATION

30.000 [Amended]

8. Amend section 30.000 by removing “(FAR appendix)” twice.

30.101 [Amended]

9. Amend section 30.101 by removing paragraphs (c) and (d).

30.201 [Amended]

10. Amend section 30.201 by removing “(FAR appendix)” twice.

30.201-1 [Amended]

11. Amend section 30.201-1 in paragraph (a) by removing “(FAR appendix)”.

30.201-2 [Amended]

12. Amend section 30.201-2 by removing “(FAR appendix)”.

30.201-3 [Amended]

13. Amend section 30.201-3 by—

a. Removing from paragraph (a) “(FAR appendix)”;

b. Removing from paragraph (b) “(FAR appendix)” twice; and

c. Removing from paragraph (c) “(FAR Appendix)”.

30.201-4 [Amended]

14. Amend section 30.201-4 by—

a. Removing from paragraph (a)(1) “(FAR appendix)” twice;

b. Removing from paragraph (a)(2) “(FAR appendix)”;

c. Removing from paragraph (b)(1) “(FAR Appendix)”;

d. Removing from paragraph (b)(2) “(FAR appendix)”;

e. Removing from paragraph (e)(1) “(FAR appendix)” three times; and

f. Removing from paragraph (e)(2) “(FAR appendix)” twice.

30.201-5 [Amended]

15. Amend section 30.201-5 in paragraph (d) by removing “(FAR Appendix)”.

30.201-6 [Amended]

16. Amend section 30.201-6 by removing “(FAR appendix)”.

30.201-7 [Amended]

17. Amend section 30.201-7 by removing “(FAR appendix)”.

30.202-1 [Amended]

18. Amend section 30.202-1 by removing “(FAR appendix)”.

30.202-2 [Amended]

19. Amend section 30.202-2 by removing “(FAR appendix)”.

30.202-3 [Amended]

20. Amend section 30.202-3 by removing “(FAR appendix)”.

30.202-4 [Amended]

21. Amend section 30.202-4 by removing “(FAR appendix)”.

30.202-5 [Amended]

22. Amend section 30.202-5 by removing “(FAR appendix)”.

30.202-6 [Amended]

23. Amend section 30.202-6 in paragraph (a) by removing “(FAR appendix)”.

30.202-7 [Amended]

24. Amend section 30.202-7 in paragraph (a) introductory text by removing “(FAR Appendix)”.

30.202-8 [Amended]

25. Amend section 30.202-8 in paragraph (b) by removing “(FAR appendix)”.

Subpart 30.3 [Amended]

26. Amend subpart 30.3 by removing from the note “(FAR appendix)”.

Subpart 30.4 [Amended]

27. Amend subpart 30.4 by removing from the note “(FAR appendix)”.

Subpart 30.5 [Amended]

28. Amend subpart 30.5 by removing from the note “(FAR appendix)”.

30.602 [Amended]

29. Amend section 30.602 in paragraph (a) by removing “(FAR Appendix)”.

PART 42—CONTRACT ADMINISTRATION AND AUDIT SERVICES

42.302 [Amended]

30. Amend section 42.302 in paragraph (a)(11) by removing “Chapter 99 (FAR Appendix)” and adding “chapter 99” in its place.

PART 44—SUBCONTRACTING POLICIES AND PROCEDURES

44.305-3 [Amended]

31. Amend section 44.305-3 in paragraph (a)(2) by removing “(Appendix B, FAR loose-leaf edition”.

[FR Doc. 2020-21695 Filed 10-22-20; 8:45 am]

BILLING CODE 6820-ep-P